DEPARTMENT OF ENERGY

Federal Energy Regulatory Commission

Combined Notice of Filings # 1

November 23, 2007.

Take notice that the Commission received the following electric corporate filings:

Docket Numbers: EC08-15-000.

Applicants: Calpine Corporation and Its Public Utili; Harbinger Capital Partners Master Fund I; Harbinger Capital Partners Special Situa; SPO Partners II, L.P.; San Francisco Partners II, L.P.

Description: Calpine Corp and Harbinger Capital Partners Master Fund I, Ltd. et al. submits a joint application for approval of the proposed distribution of common stock of a reorganized Calpine to Acquirors.

Filed Date: 11/16/2007.

Accession Number: 20071120-0121.

Comment Date: 5 p.m. Eastern Time on Friday, December 7, 2007.

Take notice that the Commission received the following electric rate filings:

Docket Numbers: ER00-3240-010; ER01-1633-007; ER03-1383-010; ER06-1191-002; ER96-780-019.

Applicants: Oleander Power Project, L.P.; Southern Company—Florida LLC; Desoto County Generating Co., LLC; DeSoto County Generating Company, LLC; Southern Company Services, Inc.

Description: Change in Status Filing and Order No. 697 Compliance Filing of Alabama Power Company, et al.

Filed Date: 11/21/2007.

Accession Number: 20071121-5105.

Comment Date: 5 p.m. Eastern Time on Wednesday, December 12, 2007.

Docket Numbers: ER04-268-006; ER06-398-003; ER06-399-003; ER98-4159-009.

Applicants: Duquesne Power, LLC; Duquesne Power, L.P.; Duquesne Keystone, LLC; Duquesne Conemaugh, LLC; Duquesne Power and Light Company.

Description: Notice of Change in Status and Compliance Filings of Duquesne Light Company, Duquesne Power, L.P., Duquesne Keystone LLC, and Duquesne Conemaugh LLC.

Filed Date: 11/21/2007.

Accession Number: 20071121-5131.

Comment Date: 5 p.m. Eastern Time on Wednesday, December 12, 2007.

Docket Numbers: ER05-231-007.

Applicants: PSEG Power Connecticut, LLC.

Description: Compliance filing of Connecticut Department of Public Utility Control et al.

Filed Date: 11/19/2007.

Accession Number: 20071121-0057.

Comment Date: 5 p.m. Eastern Time on Monday, December 10, 2007.

Docket Numbers: ER06-1218-006.

Applicants: PJM Interconnection, LLC.

Description: PJM Interconnection LLC submits revisions to the Amended & Restated Operating Agreement of PJM Interconnection LLC & its OATT to prevent the allocation of transmission rights uplift charges etc.

Filed Date: 11/16/2007.

Accession Number: 20071120-0116.

Comment Date: 5 p.m. Eastern Time on Friday, December 7, 2007.

Docket Numbers: ER07-478-006.

Applicants: Midwest Independent Transmission System Operator, Inc.

Description: Midwest Independent Transmission System Operator, Inc. submits proposed revisions to their Open Access Transmission & Energy Markets Tariff.

Filed Date: 11/19/2007.

Accession Number: 20071121-0044.

Comment Date: 5 p.m. Eastern Time on Monday, December 10, 2007.

Docket Numbers: ER07-1203-002.

Applicants: Duke Energy Carolinas, LLC.

Description: Duke Energy Carolinas LLC submits the corrections to its 11/8/07 supplemental information to Attachment B affect Attachment 3.

Filed Date: 11/21/2007.

Accession Number: 20071123-0013.

Comment Date: 5 p.m. Eastern Time on Thursday, November 29, 2007.

Docket Numbers: ER07-1337-001; ER07-1329-001.

Applicants: New York State Electric & Gas Corp.; New York Independent System Operator, Inc.

Description: New York Independent System Operator, Inc and New York State Electric & Gas Corp submit their joint response together with supporting materials to the deficiency letter issued on 10/18/07.

Filed Date: 11/19/2007.

Accession Number: 20071121-0042.

Comment Date: 5 p.m. Eastern Time on Monday, December 10, 2007.

Docket Numbers: ER08-229-000.

Applicants: PJM Interconnection, L.L.C.

Description: PJM Interconnection LLC submits amendments to Schedule 12-Appendix of the its tariff to include cost responsibility assignments for three baseline upgrades that will operate at or above 500 kV etc.

Filed Date: 11/16/2007.

Accession Number: 20071120-0114.

Comment Date: 5 p.m. Eastern Time on Friday, December 7, 2007.

Docket Numbers: ER08-230-000.

Applicants: New York Independent System Operator, Inc.

Description: New York Independent System Operator Corp et al. submit an executed Engineering, Procurement and Construction Agreement.

Filed Date: 11/16/2007.

Accession Number: 20071120-0113.

Comment Date: 5 p.m. Eastern Time on Friday, December 7, 2007.

Docket Numbers: ER08-232-000.

Applicants: PJM Interconnection, L.L.C.

Description: PJM Interconnection LLC submits revisions to the Reliability Pricing Model.

Filed Date: 11/19/2007.

Accession Number: 20071121-0053.

Comment Date: 5 p.m. Eastern Time on Monday, December 10, 2007.

Docket Numbers: ER08-233-000.

Applicants: CAM Energy Products, LP.

Description: CAM Energy Products, LP submits a Notice of Cancellation of its market-base rate authority.

Filed Date: 11/19/2007.

Accession Number: 20071121-0052.

Comment Date: 5 p.m. Eastern Time on Monday, December 10, 2007.

Docket Numbers: ER08-234-000.

Applicants: EWO Marketing, LP.

Description: EWO Marketing, LP submits three executed Service Agreements providing for cost-based, short-term power sales to Entergy Power, Inc.

Filed Date: 11/19/2007.

Accession Number: 20071121-0054.

Comment Date: 5 p.m. Eastern Time on Monday, December 10, 2007.

Docket Numbers: ER08-248-000.

Applicants: Westar Energy, Inc.

Description: Westar Energy, Inc submits a Notice of Cancellation of an Electric Power Supply Agreement the City of Elsmore, Kansas.

Filed Date: 11/21/2007.

Accession Number: 20071123-0012.

Comment Date: 5 p.m. Eastern Time on Wednesday, December 12, 2007.

Docket Numbers: ER08-249-000.

Applicants: Westar Energy, Inc.

Description: Westar Energy, Inc submits a Notice of Cancellation of an Electric Power Supply Agreement the City of Burlingame, Kansas.

Filed Date: 11/21/2007.

Accession Number: 20071123-0011.

Comment Date: 5 p.m. Eastern Time on Wednesday, December 12, 2007.

Take notice that the Commission received the following electric securities filings:

Docket Numbers: ES07-58-001.

Applicants: Old Dominion Electric Cooperative, Inc.

Description: Exhibit B to Request for Permission to Issue Securities of Old Dominion Electric Cooperative.

Filed Date: 11/16/2007.

Accession Number: 20071115-5082.

Comment Date: 5 p.m. Eastern Time on Wednesday, November 28, 2007.

Take notice that the Commission received the following open access transmission tariff filings:

Docket Numbers: OA07-47-001.

Applicants: Tampa Electric Company.

Description: Tampa Electric Company submits Substitute Original Sheet 5 et al. to amend its 7/13/07 compliance filing.

Filed Date: 11/19/2007.

Accession Number: 20071121-0043.

Comment Date: 5 p.m. Eastern Time on Monday, December 10, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E7-23328 Filed 11-30-07; 8:45 am]

BILLING CODE 6717-01-P